DEPARTMENT OF ENERGY

48 CFR Part 950

Extraordinary Contractual Actions

CFR Correction

In Title 48 of the Code of Federal Regulations, Chapters 7 to 14, revised as of Oct. 1, 2005, on page 368, part 950 is corrected by removing sections 950.7000 and 951.7001, and reinstating sections 950.7000 and 950.7001 in their place to read as follows:

§ 950.7000 Scope of subpart.

This subpart describes the established policies concerning indemnification of DOE contractors against public liability for a nuclear incident arising out of or in connection with the contract activity.

[49 FR 12039, Mar. 28, 1984, as amended at 56 FR 57827, Nov. 14, 1991]

§ 950.7001 Applicability

The policies and procedures of this subpart shall govern DOE's entering into agreements of indemnification with recipients of a contract whose work under the contract involves the risk of public liability for a nuclear incident or precautionary evacuation.

[49 FR 12039, Mar. 28, 1984, as amended at 56 FR 57827, Nov. 14, 1991]

[FR Doc. 06-55515 Filed 4-17-06; 8:45 am]

BILLING CODE 1505-01-D